DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Federal Insurance and Mitigation Administration, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Coffee County, Alabama, and Incorporated Areas
Docket No.: FEMA-B-1053
Beaverdam Creek | Approximately 3,492 feet upstream of the confluence with the Pea River | +199 | City of Elba.
| Approximately 6,718 feet upstream of the confluence with the Pea River | +204
Pea River | Approximately 3,160 feet downstream of the intersection of County Road 404 and Reese Avenue | +192 | City of Elba, Unincorporated Areas of Coffee County.
| Approximately 13,918 feet upstream of the confluence with the Pea River | +206
Whitewater Creek | Approximately 2,000 feet upstream of State Route 203 | +205 | City of Elba, Unincorporated Areas of Coffee County.
| Approximately 14,458 feet upstream of State Route 203 | +206
Wilkerson Creek | At the Geneva County boundary | +135 | Unincorporated Areas of Coffee County.
| Approximately 2,140 feet upstream of the Geneva County boundary | +138
Wilson Mill Creek | Approximately 390 feet downstream of County Road 45 | +135 | Unincorporated Areas of Coffee County.
| Just downstream of County Road 45 | +137
* National Geodetic Vertical Datum.
+ North American Vertical Datum.
# Depth in feet above ground.
‸ Mean Sea Level, rounded to the nearest 0.1 meter.
ADDRESSES
City of Elba
Maps are available for inspection at 200 Buford Street, Elba, AL 36323.
Unincorporated Areas of Coffee County
Maps are available for inspection at 1065 East McKinnon Street, New Brockton, AL 36351.
La Plata County, Colorado, and Incorporated Areas
Docket No.: FEMA-B-1051
Grimes Creek | Approximately 0.5 mile downstream of County Road 501 | +7674 | Unincorporated Areas of La Plata County.
| Approximately 1,400 feet upstream of West Grimes Creek Road | +7776
Junction Creek | At Pleasant Drive in Durango County | +6659 | Unincorporated Areas of La Plata County.
| Approximately 0.2 mile upstream of the San Juan National Forest boundary | +6996
Los Pinos River | Approximately 1.2 mile downstream of U.S. Route 160B | +6826 | Town of Bayfield, Unincorporated Areas of La Plata County.
| At the Vallecito Reservoir Dam | +7533
Middle Creek | Approximately 0.6 mile downstream of County Road 501 | +7674 | Unincorporated Areas of La Plata County.
| At West Grimes Creek Road | +7717
Vallecito Creek | Approximately 0.5 mile downstream of County Road 501 | +7674 | Unincorporated Areas of La Plata County.
| At the Vallecito Campground/San Juan National Forest boundary | +7918
* National Geodetic Vertical Datum.
+ North American Vertical Datum.
# Depth in feet above ground.
‸ Mean Sea Level, rounded to the nearest 0.1 meter.
ADDRESSES
Town of Bayfield
Maps are available for inspection at P.O. Box 80, Bayfield, CO 81122.
Unincorporated Areas of La Plata County
Maps are available for inspection at 1060 East 2nd Avenue, Durango, CO 81301.
Russell County, Kentucky, and Incorporated Areas
Docket No.: FEMA-B-1040
Cumberland River | Approximately 3,700 feet downstream of the confluence with Lester Creek | +565 | Unincorporated Areas of Russell County.
| Just downstream of the Wolf Creek Dam | +577
Lake Cumberland | Just upstream of the Wolf Creek Dam | +760 | City of Jamestown, Unincorporated Areas of Russell County.
| Just downstream of the confluence with Thomas Branch | +760
* National Geodetic Vertical Datum.
+ North American Vertical Datum.
# Depth in feet above ground.
‸ Mean Sea Level, rounded to the nearest 0.1 meter.
ADDRESSES
City of Jamestown
Maps are available for inspection at 202 Monument Square, Jamestown, KY 42629.
Unincorporated Areas of Russell County
Maps are available for inspection at 1 Public Square, Jamestown, KY 42629.
Valencia County, New Mexico, and Incorporated Areas
Docket No.: FEMA-B-1022
Rancho Cielo Arroyo 3 | At the Belen Highline Canal | +4876 | Unincorporated Areas of Valencia County.
| Approximately 7,900 feet upstream of I-25 | +5018
Rancho Cielo Arroyo 3, Tributary #1 | At the confluence with Rancho Cielo Arroyo 3 | +4840 | Unincorporated Areas of Valencia County.
| Approximately 2,260 feet upstream of the confluence with Rancho Cielo Arroyo 3 | +4987
Rancho Cielo Arroyo 5 | At the Belen Highline Canal | +4870 | Unincorporated Areas of Valencia County.
| Approximately 16,700 feet upstream of I-25 | +5056
Rancho Cielo Arroyo 5, Tributary #1 | At the confluence with Rancho Cielo Arroyo 5 | +4931 | Unincorporated Areas of Valencia County.
| Approximately 5,370 feet upstream of the confluence with Rancho Cielo Arroyo 5 | +5056
Rancho Cielo Arroyo 6 | At the Belen Highline Canal | +4873 | Unincorporated Areas of Valencia County.
| Approximately 31,900 feet upstream of I-25 | +4873
Rancho Cielo Arroyo 8 | At the Belen Highline Canal | +4880 | Unincorporated Areas of Valencia County.
| Approximately 32,700 feet upstream of I-25 | +5274
Rancho Cielo Arroyo 9 | At the Belen Highline Canal | +4877 | Unincorporated Areas of Valencia County.
| Approximately 14,200 feet upstream of I-25 | +5145
Rancho Cielo Arroyo 9, Tributary #1 | At the confluence with Rancho Cielo Arroyo 9 | +5018 | Unincorporated Areas of Valencia County.
| Approximately 6,150 feet upstream of the confluence with Rancho Cielo Arroyo 9 | +5176
* National Geodetic Vertical Datum.
+ North American Vertical Datum.
# Depth in feet above ground.
‸ Mean Sea Level, rounded to the nearest 0.1 meter.
ADDRESSES
Unincorporated Areas of Valencia County
Maps are available for inspection at 444 Los Lunas Avenue, Los Lunas, NM 87031.
Pepin County, Wisconsin, and Incorporated Areas
Docket No.: FEMA-B-1012
Chippewa River | Approximately 7,000 feet downstream of the new U.S. Route 10 bridge | +712 | City of Durand, Unincorporated Areas of Pepin County.
| Approximately 6,000 feet upstream of the confluence with Bear Creek | +717
Mississippi River | Approximately at the intersection of Lakeport Road and State Highway 35 | +681 | Unincorporated Areas of Pepin County, Village of Stockholm.
| At the Pierce County boundary | +681
* National Geodetic Vertical Datum.
+ North American Vertical Datum.
# Depth in feet above ground.
‸ Mean Sea Level, rounded to the nearest 0.1 meter.
ADDRESSES
City of Durand
Maps are available for inspection at City Hall, 104 East Main Street, Durand, WI 54736.
Unincorporated Areas of Pepin County
Maps are available for inspection at the Pepin County Government Center, 740 7th Avenue West, Pepin, WI 54736.
Village of Stockholm
Maps are available for inspection at the Village Hall, 2041 Spring Street, Stockholm, WI 54769.

(Catalog of Federal Domestic Assistance No. 97.022, “Flood Insurance.”)

Dated: July 19, 2010.
Sandra K. Knight,
Deputy Federal Insurance and Mitigation Administrator, Mitigation, Department of Homeland Security, Federal Emergency Management Agency.

[FR Doc. 2010-18453 Filed 7-27-10; 8:45 am]

BILLING CODE 9110-12-P